DEPARTMENT OF HEALTH AND HUMAN SERVICES

Health Care Financing Administration

[Document Identifier: HCFA-10045]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New collection;

Title of Information Collection: Durable Medical Equipment and Prosthetics, Orthotics, and Supplies (DMEPOS) Supplier Survey: Texas;

Form No.: HCFA-10045 (OMB# 0938-NEW);

Use: This survey is necessary to collect information on beneficiary access, quality of services, diversity of product selection, industry competitiveness, and financial performance from DMEPOS suppliers. These key elements of the evaluation of Medicare's competitive bidding demonstration cannot be thoroughly evaluated without a survey of suppliers. The information will be presented to HCFA and to Congress, who will use the results to determine whether the demonstration should be extended to other sites. The respondents will be companies who supply DMEPOS to Medicare beneficiaries.;

Frequency: Annually;

Affected Public: Business or other for-profit;

Number of Respondents: 384;

Total Annual Responses: 384;

Total Annual Hours: 768.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan, HCFA-10045, Room N2-14-26, 7500 Security Boulevard, Baltimore, Maryland 21244-1850.

Dated: June 20, 2001.
John P. Burke III,
HCFA Reports Clearance Officer, HCFA Office of Information Services, Security and Standards Group, Division of HCFA Enterprise Standards.

[FR Doc. 01-16272 Filed 6-27-01; 8:45 am]

BILLING CODE 4120-03-P